DEPARTMENT OF HEALTH AND HUMAN SERVICES

National Institutes of Health

Proposed Collection; Comment Request; NIH Toolbox for Assessment of Neurological and Behavioral Function

SUMMARY: In compliance with the requirement of Section 3506(c)(2)(A) of the Paperwork Reduction Act of 1995, for opportunity for public comment on proposed data collection projects, the National Institute on Aging (NIA), the National Institutes of Health (NIH) will publish periodic summaries of proposed projects to be submitted to the Office of Management and Budget (OMB) for review and approval.

Proposed Collection

Title: NIH-Toolbox for Assessment of Neurological and Behavioral Function. Type of Information Collection Request: New. Need and Use of Information Collection: The overall goal of the Toolbox project is to develop unified, integrated methods and measures of four domains of neurological and behavioral functioning (cognitive, emotional, motor and sensory) for use in large longitudinal or epidemiological studies where functioning is monitored over time. The current phase (“Norming”), will involve a large sample of 5,660 for the purpose of establishing comparative norms. We will screen 52,800 households for members' age, gender and primary language to recruit the participants. The targeted population will be non-institutionalized U.S. residents, aged 3-85, with 66% English-speaking and 34% Spanish-speaking. Frequency of Response: Once to the screener, and once or twice (depending on subsample). Affected Public: Individuals. Type of Respondents: U.S. residents (persons aged 3-85 years). The annual reporting burden is as follows: Estimated Number of Respondents: 52,800 for the screener and 5,660 for the Toolbox measures; Estimated Number of Responses per Respondent: 1 screening and 1-2 for selected participants; Average Burden Hours per Response: For the screener, 0.1 and 2.49 for selected participants; and Estimated Total Annual Burden Hours Requested: 21,480. The annualized cost to respondents is estimated at: $393,250. There are no Capital Costs, Operating Costs, and/or Maintenance Costs to report.

Type of respondents | Estimated number of respondents | Estimated number of responses per respondent | Average burden hours per response | Estimated total annual burden hours requested
Screening
Household member | 52,800 | 1 | .1 | 5,280
Adults
Not affiliated with participating child, single assessment | 1710 | 1 | 3 | 5,130
Not affiliated with participating child, two assessments | 350 | 2 | 3 | 2,100
Non-participating parent of participating child, single assessment | 910 | 1 | 0.5 | 455
Non-participating parent of participating child, two assessments | 350 | 2 | 0.5 | 350
Participating parent of participating child, single assessment | 390 | 1 | 3.5 | 1,365
Participating parent of participating child, two assessments | 150 | 2 | 3.5 | 1,050
Children
Single assessment | 1300 | 1 | 2.5 | 3,250
Two assessments | 500 | 2 | 2.5 | 2,500
Totals | *54,600 |  |  | 21,480
*Includes one adult from each screened household plus selected child participants.

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Molly Wagster, Ph.D., Division of Neuroscience, National Institute on Aging, NIH, DHHS, 7201 Wisconsin Avenue, Suite 350, Bethesda, Maryland 20892-9205 or call non-toll-free number 301-496-9350 or e-mail your request, including your address to: wagsterm@nia.nih.gov.

Comments Due Date: Comments regarding this information collection are best assured of having their full effect if received within 60 days of the date of this publication.

Dated: April 23, 2010.
Melissa Fraczkowski,
National Institute on Aging Project Clearance Liaison, National Institutes of Health.

[FR Doc. 2010-10015 Filed 4-28-10; 8:45 am]

BILLING CODE 4140-01-P